DEPARTMENT OF THE INTERIOR

Bureau of Land Management

[CA-310-1830-XQ]

Notice of Extension of Application Deadline

AGENCY: Bureau of Land Management, Northeast California Resource Advisory Council, Susanville, California.

ACTION: Notice of extension of membership application deadline.

SUMMARY: Pursuant to authorities in the Federal Advisory Committees Act (Public Law 92-463) and the Federal Land Policy and Management Act (Pub. L. 94-579), the U.S. Bureau of Land Management's Northeast California Resource Advisory Council is seeking nominations for membership on the advisory council. The original application deadline of April 20, 2000 has been extended to Friday, May 26, 2000.

SUPPLEMENTARY INFORMATION: There are five open seats on the Advisory Council. Three openings are in Category One, which includes holders of federal grazing permits or leases, representatives of the timber or mineral industries, representatives of commercial recreation or off-highway vehicle interests, and interests associated with transportation and rights of way. There is one open seat in Category Two, which includes representatives from national or regional environmental groups, interests associated with dispersed recreation activities, archaeological and historic interests, and national or regionally recognized wild horse and burro interest groups. There is one open seat in Category Three, which includes persons who hold state, county or local elected office, employees of state agencies responsible for natural resources, teachers involved in the natural sciences, members of Native American tribes, and the public at large. Members are appointed by the Secretary of the Interior to serve three-year terms. The person selected must have knowledge or experience in the interest area specified, and must have knowledge of the geographic area under the council's purview (the northeast portion of California and the northwest portion of Nevada). Qualified applicants must have demonstrated a commitment to collaborate to solve a broad spectrum of natural resource issues.

Nomination forms are available by contacting BLM Public Affairs Officer Joseph J. Fontana, 2950 Riverside Drive, Susanville, CA 96130; by telephone (530) 257-5381; or email, jfontana@ca.blm.gov. Completed nomination forms, and letters of support, must be returned to: Bureau of Land Management, 2950 Riverside Drive, Susanville, CA 96130, Attention Public Affairs Officer, no later than Friday, May 26, 2000.

FOR ADDITIONAL INFORMATION:

Contact BLM Alturas Field Manager Tim Burke, (530) 233-4666, or Public Affairs Officer Joseph J. Fontana at the above phone or email address.

Joseph J. Fontana,
Public Affairs Officer.

[FR Doc. 00-11452 Filed 5-5-00; 8:45 am]

BILLING CODE 4310-40-P